DEPARTMENT OF TRANSPORTATION

Pipeline and Hazardous Materials Safety Administration

Pipeline Safety Advisory: Potential for Damage to Pipeline Facilities Caused by the Passage of Hurricane Katrina

AGENCY: Pipeline and Hazardous Materials Safety Administration (PHMSA), DOT.

ACTION: Notice; issuance of advisory bulletin.

SUMMARY: PHMSA is issuing this advisory bulletin to owners and operators of gas and hazardous liquid pipelines to communicate the potential for damage to pipeline facilities caused by the passage of Hurricane Katrina on August 29, 2005.

ADDRESSES: This document can be viewed on the Office of Pipeline Safety (OPS) home page at: http://ops.dot.gov.

FOR FURTHER INFORMATION CONTACT: Joy Kadnar, (202) 366-0568, or by e-mail at Joy.Kadnar@dot.gov.

SUPPLEMENTARY INFORMATION:

I. Background

The purpose of this advisory bulletin is to warn all operators of gas and hazardous liquid pipelines in the Gulf of Mexico and adjacent state waters that pipeline safety problems may have been caused by the passage of Hurricane Katrina on August 29, 2005. PHMSA received numerous reports of damage to pipeline facilities in the offshore and inland areas of Louisiana, Mississippi, Alabama, and the Florida Panhandle.

Department of the Interior reported on August 29, 2005 that 615 of the 819 oil platforms in the Gulf of Mexico had been evacuated and that crude oil production had dropped by nearly 92 percent, or 1.4 million barrels a day, and natural gas production was down 83 percent.

The first aerial inspections of crude oil and natural gas platforms have reported extensive damage and numerous oil and gas pipeline leaks. There is also a report of a production platform missing. Several on shore pipeline companies have reported facilities (pumping stations, compression stations, and terminals) to be underwater water and leaking.

The Federal pipeline safety regulations at 49 CFR parts 192 and 195 require operators to shut down and start up pipeline facilities in a safe manner and to conduct periodic pipeline patrols to detect unusual operating and maintenance conditions and to take corrective action if conditions are unsafe. Because this patrolling is generally by aircraft, pipelines exposed or damaged on the sea floor may not be visually detected. It is likely that some pipeline facilities and pipelines located in the area of Hurricane Katrina's impact are damaged or exposed.

The gas and hazardous liquid pipeline safety regulations require that operators mitigate the safety condition if a pipeline facility is damaged or if a pipeline is exposed on the sea floor or constitutes a hazard to navigation. The regulations require that damaged pipeline facilities or exposed pipelines must be repaired, replaced, or reburied to eliminate the hazard, and pipelines that are a hazard to navigation must be promptly reported to the National Response Center (NRC) at 1-800-424-8802.

II. Advisory Bulletin (ADB-05-08)

To: Owners and operators of gas and hazardous liquid pipeline systems.

Subject: Potential for damage to pipeline facilities caused by the passage of Hurricane Katrina.

Advisory: All operators of gas and hazardous liquid pipelines in the Gulf of Mexico and adjacent state waters are warned that pipeline safety problems may have been caused by the passage of Hurricane Katrina on August 29, 2005. PHMSA received numerous reports of damage to pipeline facilities, particularly offshore Louisiana.

Pipeline operators are urged to take the following actions to ensure personal and environmental safety and the integrity of gas and hazardous liquid pipelines located in areas impacted by Hurricane Katrina:

1. Identify persons who normally engage in shallow water commercial fishing, shrimping, and other marine vessel operations and caution them that underwater offshore pipelines may have become unprotected on the sea floor. Marine vessels operating in water depths comparable to a vessel's draft or when operating bottom dragging equipment can be damaged and their crews endangered by an encounter with a underwater pipeline.

2. Identify and caution marine vessel operators in offshore shipping lanes and other offshore areas where Hurricane Katrina may have affected a pipeline that deploying fishing nets or anchors, and dredging operations may damage the pipeline, their vessels, and endanger their crews.

3. In the process of bringing offshore and inland transmission facilities back online, check for structural damage to piping, valves, emergency shutdown systems, risers and supporting systems. Aerial inspections of pipeline routes should be conducted to check for leaks in the transmission systems. In areas where floating and jack-up rigs have moved and their path could have been over the pipelines, review possible routes and check for sub-sea pipeline damage where required.

4. Identify and correct any conditions on the pipeline as required by the Federal pipeline safety regulations.

PHMSA would appreciate receiving information about all damage to pipeline facilities in the Gulf of Mexico and adjacent State waters caused by Hurricane Katrina. The Federal pipeline safety regulations require that operators report certain incidents and accidents to PHMSA by specific methods. Damage not reported by these methods may be reported to Joy Kadnar at (202) 366-0568 or joy.kadnar@dot.gov.

(49 U.S.C. Chapter 601; 49 CFR 1.53).
Issued in Washington, DC on August 31, 2005.
Joy Kadnar,
Director of Engineering and Engineering Support.

[FR Doc. 05-17652 Filed 9-6-05; 8:45 am]

BILLING CODE 4910-60-P